NATIONAL SCIENCE FOUNDATION

Sunshine Act Meetings

The National Science Board's (NSB) Committee on Science and Engineering Policy (SEP) hereby gives notice of the scheduling of a videoconference for the transaction of National Science Board business pursuant to the National Science Foundation Act and the Government in the Sunshine Act.

TIME AND DATE: Wednesday, February 8, 2023, from 4:00 p.m.-5:00 p.m. EST.

PLACE: The meeting will be held by videoconference through the National Science Foundation.

STATUS: Open.

MATTERS TO BE CONSIDERED: Chair's opening remarks; discussion of potential SEP policy focus areas; discussion of near-term opportunities for leveraging data and analyses with these topics; discussion of opportunities for SEP to collaborate on shared policy priorities across the Board.

CONTACT PERSON FOR MORE INFORMATION: Point of contact for this meeting is Chris Blair, cblair@nsf.gov, 703/292-7000.

Christopher Blair,
Executive Assistant to the National Science Board Office.

[FR Doc. 2023-02527 Filed 2-2-23; 11:15 am]

BILLING CODE 7555-01-P